Title 3—

The President

Memorandum of May 12, 2020

Delegation of Functions and Authorities Under Section 1260J of the National Defense Authorization Act for Fiscal Year 2020

Memorandum for the Secretary of Commerce [and] the Attorney General

By the authority vested in me as President by the Constitution and the laws of the United States of America, including section 301 of title 3, United States Code, I hereby delegate to the Secretary of Commerce, in consultation with the Attorney General, the functions and authorities vested in the President by section 1260J of the National Defense Authorization Act for Fiscal Year 2020 (Public Law 116-92).

The delegation in this memorandum shall apply to any provision of any future public law that is the same or substantially the same as the provision referenced in this memorandum.

The Secretary of Commerce is authorized and directed to publish this memorandum in the Federal Register.

THE WHITE HOUSE,

Washington, May 12, 2020

[FR Doc. 2020-10749

Filed 5-15-20; 8:45 am]

Billing code 3510-07-P